DEPARTMENT OF EDUCATION

National Advisory Committee on Institutional Quality and Integrity (NACIQI)

AGENCY: National Advisory Committee on Institutional Quality and Integrity, Office of Postsecondary Education, U.S. Department of Education.

ACTION: Announcement of an open meeting of the National Advisory Committee on Institutional Quality and Integrity (NACIQI) and information pertaining to members of the public submitting third-party written and oral comments.

ADDRESSES: U.S. Department of Education, Office of Postsecondary Education, 1990 K Street NW., Room 8072, Washington, DC 20006.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This notice sets forth the agenda for the June 6-7, 2013 meeting of the National Advisory Committee on Institutional Quality and Integrity (NACIQI); and provides information to members of the public on submitting written comments and on requesting to make oral comments at the meeting. The notice of this meeting is required under Section 10(a)(2) of the Federal Advisory Committee Act (FACA) and Section 114(d)(1)(B) of the Higher Education Act (HEA) of 1965, as amended.

Meeting Date and Place: The NACIQI meeting will be held on June 6-7, 2013, from approximately 8:00 a.m. to approximately 5:30 p.m., at a location to be determined in the Washington DC area. The exact location will be published in the Federal Register and on the Department's Web site at http://www2.ed.gov/about/bdscomm/list/naciqi.html#meetings by May 6, 2013.

Meeting Agenda: Below is a list of agencies, including their current and requested scopes of recognition, scheduled for review during the June 6-7, 2013 meeting:

Petitions for Continued Recognition

Accrediting Agencies

1. Accrediting Council for Continuing Education and Training (ACCET) (Current Scope: The accreditation of institutions of higher education throughout the United States that offer non-collegiate continuing education programs and those that offer occupational associate degree programs and those that offer such programs via distance education.)

2. Accreditation Council on Optometric Education (ACOE) (Current Scope: The accreditation in the United States of professional optometric degree programs, optometric technician (associate degree) programs, and optometric residency programs, and for the preaccreditation categories of Preliminary Approval for professional optometric degree programs and Candidacy Pending for optometric residency programs in Department of Veterans Affairs facilities.)

3. Association of Advanced Rabbinical and Talmudic Schools (AARTS) (Current Scope: The accreditation and pre-accreditation (“Correspondent” and “Candidate”) within the United States of advanced rabbinical and Talmudic schools.) (Requested Scope: The accreditation and pre-accreditation (“Correspondent” and “Candidate”) within the United States of advanced rabbinical and Talmudic schools which grant postsecondary degrees such as Baccalaureate, Masters, Doctorate, First Rabbinic and First Talmudic degrees.)

4. Commission on Accreditation of Healthcare Management Education (CAHME) (Current Scope: The accreditation throughout the United States of graduate programs in healthcare management.)

5. National Association of Schools of Dance, Commission on Accreditation (NASD) (Current Scope: The accreditation throughout the United States of freestanding institutions, and units offering dance and dance-related programs (both degree- and non-degree-granting), including those offered via distance education.) (Requested Scope: The accreditation throughout the United States of freestanding institutions, and units offering dance and dance-related programs (both degree- and non-degree-granting), including those offered via distance and correspondence education.)

6. National Association of Schools of Art and Design, Commission on Accreditation (NASAD)(Current Scope: The accreditation throughout the United States of freestanding institutions, and units offering art/design and art/design-related programs (both degree- and non-degree-granting), including those offered via distance education.) (Requested Scope: The accreditation throughout the United States of freestanding institutions, and units offering art/design and art/design-related programs (both degree- and non-degree-granting), including those offered via distance and correspondence education.)

7. National Association of Schools of Music, Commission on Accreditation (NASM) (Current Scope: The accreditation throughout the United States of freestanding institutions, and units offering music and music-related programs (both degree- and non-degree-granting), including those offered via distance education.) (Requested Scope: The accreditation throughout the United States of freestanding institutions, and units offering music and music-related programs (both degree- and non-degree-granting), including those offered via distance and correspondence education.)

8. National Association of Schools of Theatre, Commission on Accreditation (NAST) (Current Scope: The accreditation throughout the United States of freestanding institutions, and units offering theatre and theatre-related programs (both degree-and non-degree-granting), including those offered via distance education.) (Requested Scope: The accreditation throughout the United States of freestanding institutions, and units offering theatre and theatre-related programs (both degree- and non-degree-granting), including those offered via distance and correspondence education.)

9. New England Association Of Schools and Colleges, Commission on Institutions of Higher Education (NEA-CIHE) (Current Scope: The accreditation and preaccreditation (“Candidacy status”) of institutions of higher education in Connecticut, Maine, Massachusetts, New Hampshire, Rhode Island, and Vermont that award bachelor's, master's, and/or doctoral degrees, and associate degree-granting institutions in those states that include degrees in liberal arts or general studies among their offerings, including the accreditation of programs offered via distance education within these institutions. This recognition extends to the Board of Trustees of the Association jointly with the Commission for decisions involving preaccreditation, initial accreditation, and adverse actions.) (Requested Scope: The accreditation and pre-accreditation (“Candidacy status”) of institutions of higher education in Connecticut, Maine, Massachusetts, New Hampshire, Rhode Island, and Vermont that award bachelor's, master's, and/or doctoral degrees, and associate degree-granting institutions in those states that include degrees in liberal arts or general studies among their offerings, including the accreditation of programs offered via distance education within these institutions. This recognition extends jointly, to the Commission for accreditation and pre-accreditation decisions and to the Board of Trustees of the Association and the Commission for the appeal of adverse actions.)

10. North Central Association of Colleges and Schools, The Higher Learning Commission (NCA-HLC) (Current Scope: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education within these institutions. This recognition extends to the Institutional Actions Council jointly with the Board of Trustees of the Commission for decisions on cases for continued accreditation or reaffirmation, and continued candidacy. This recognition also extends to the Review Committee of the Accreditation Review Council jointly with the Board of Trustees of the Commission for decisions on cases for continued accreditation or candidacy and for initial candidacy or initial accreditation when there is a consensus decision by the Review Committee.) (Requested Scope: The accreditation and preaccreditation (“Candidate for Accreditation”) of degree-granting institutions of higher education in Arizona, Arkansas, Colorado, Illinois, Indiana, Iowa, Kansas, Michigan, Minnesota, Missouri, Nebraska, New Mexico, North Dakota, Ohio, Oklahoma, South Dakota, West Virginia, Wisconsin, and Wyoming, including the tribal institutions and the accreditation of programs offered via distance education within these institutions. This recognition extends to the Institutional Actions Council jointly with the Board of Trustees of the Commission for decisions on cases for continued accreditation or reaffirmation, and continued candidacy and to the Appeal Body jointly with the Board of Trustees of the Commission for decisions related to initial candidacy or accreditation or reaffirmation of accreditation.)

Petitions for Recognition Based on a Compliance Report

Accrediting Agencies

1. Accreditation Commission for Acupuncture and Oriental Medicine (ACAOM) (Current Scope: The accreditation and preaccreditation (“Candidacy” status) throughout the United States of first-professional master's degree and professional master's level certificate and diploma programs in acupuncture and Oriental medicine and professional post-graduate doctoral programs in acupuncture and in Oriental Medicine (DAOM), as well as freestanding institutions and colleges of acupuncture or Oriental medicine that offer such programs.)

2. Accrediting Council for Independent Colleges and Schools (ACICS) (Current Scope: The accreditation of private postsecondary institutions throughout the United States offering certificates or diplomas, and postsecondary institutions offering associate, bachelor's, or master's degrees in programs designed to educate students for professional, technical, or occupational careers, including those that offer those programs via distance education.)

3. American Bar Association (ABA) (Current Scope: The accreditation throughout the United States of programs in legal education that lead to the first professional degree in law, as well as freestanding law schools offering such programs. This recognition also extends to the Accreditation Committee of the Section of Legal Education (Accreditation Committee) for decisions involving continued accreditation (referred to by the agency as “approval”) of law schools.)

4. American Psychological Association (APA) (Current Scope: The accreditation in the United States of doctoral programs in clinical, counseling, school and combined professional-scientific psychology; predoctoral internship programs in professional psychology; and postdoctoral residency programs in professional psychology.)

5. Commission on Accrediting of the Association of Theological Schools (ATSUSC) (Current Scope: The accreditation and pre-accreditation (“Candidate for Accredited Membership”) of theological schools and seminaries, as well as schools or programs that are parts of colleges or universities, in the United States, offering post baccalaureate degrees in professional and academic theological education, including delivery via distance education.)

6. American Dental Association, Commission on Dental Accreditation (CODA) (Current Scope: The accreditation of predoctoral dental education programs (leading to the D.D.S. or D.M.D. degree), advanced dental education programs, and allied dental education programs that are fully operational or have attained “Initial Accreditation” status, including programs offered via distance education.)

7. Council On Occupational Education (COE) (Current Scope: The accreditation and preaccreditation (“Candidacy Status”) throughout the United States of postsecondary occupational education institutions offering non-degree and applied associate degree programs in specific career and technical education fields, including institutions that offer programs via distance education.)

8. Transnational Association Of Christian Colleges and Schools (TRACS) (Current Scope: The accreditation and pre-accreditation (“Candidate” status) of Christian postsecondary institutions in the United States that offer certificates, diplomas, and associate, baccalaureate, and graduate degrees, including institutions that offer distance education.)

State Approval Agency for Nurse Education

1. Maryland Board of Nursing (MBN) (Current Scope: State agency for the approval of nurse education.

Submission of Written Comments: Written comments must be received by March 4, 2013, in the accreditationcommittees@ed.gov mailbox and include the subject line “Written Comments: re (agency name).” The email must include the name, title, affiliation, mailing address, email address, telephone and facsimile numbers and Web site (if any) of the person/group making the comment. Comments should be submitted as a Microsoft Word document or in a medium compatible with Microsoft Word (not a PDF file) that is attached to an electronic mail message (email) or provided in the body of an email message. Comments about an agency's compliance report must relate to the issues raised and the criteria for recognition cited in the Secretary's letter that requested the report. Comments about the renewal of an agency's recognition must relate to its compliance with the Criteria for the Recognition of Accrediting Agencies or the Criteria and Procedures for Recognition of State Agencies for Approval of Nurse Education, as appropriate, which are available at http://www.ed.gov/admins/finaid/accred/index.html. Third parties having concerns about agencies regarding matters outside the scope of the petition should report those concerns to the Department. Only material submitted by the deadline to the email address listed in this notice, and in accordance with these instructions, become part of the official record concerning agencies scheduled for review and are considered by the Department and the NACIQI in their deliberations. Please do not send material directly to the NACIQI members.

Submission of Requests To Make an Oral Comment: There are two methods the public may use to make a third-party oral comment of three to five minutes. All comments must concern one of the agencies scheduled for review at the June 6-7, 2013 meeting, and must relate to the Criteria for Recognition of accrediting agencies or the Criteria and Procedures for Recognition of State Agencies for Approval of Nurse Education, as appropriate. These criteria are available at: http://www.ed.gov/admins/finaid/accred/index.html

Method One: Submit a request by email to the accreditationcommittees@ed.gov mailbox. Please do not send material directly to NACIQI members. Requests must be received by March 4, 2013, and include the subject line “Oral Comment Request: re (agency name).” The email must include the name, title, affiliation, mailing address, email address, telephone and facsimile numbers and Web site (if any) of the person/group requesting to speak. All individuals or groups submitting an advance request in accordance with this notice will be afforded an opportunity to speak for a maximum of five minutes each. Each request must concern the recognition of a single agency or institution tentatively scheduled in this notice for review, be no more than one page (maximum), and must include:

1. The name, title, affiliation, mailing address, email address, telephone and facsimile numbers, and Web site (if any) of the person/group requesting to speak; and,

2. A brief summary of the principal points to be made during the oral presentation.

Method Two: Register at the meeting location on June 6 or June 7, 2013, to make an oral comment during the NACIQI's deliberations concerning a particular agency or institution scheduled for review that day. The requestor must provide his or her name, title, affiliation, mailing address, email address, telephone and facsimile numbers, and Web site (if any). A total of up to fifteen minutes during each agency review will be allotted for commenters who register on June 6 or June 7, 2013. Individuals or groups will be selected on a first-come, first-served basis. If selected, each commenter may speak from three to five minutes, depending on the number of individuals or groups who signed up the day of the meeting.

If a person or group requests, in advance, to make comments they cannot also register for an oral presentation opportunity on June 6 or June 7, 2013. The oral comments made will become part of the official record and will be considered by the Department and NACIQI in their deliberations. No individual or group in attendance or making oral presentations may distribute written materials at the meeting.

Access to Records of the Meeting: The Department will post the official report of the meeting on the NACIQI Web site shortly after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Executive Director, NACIQI, U.S. Department of Education, 1990 K Street NW., Room 8073, Washington, DC 20006-8129, telephone: (202) 219-7035, fax: (202) 219-7005, or email: Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

David A. Bergeron,
Acting Assistant Secretary for Postsecondary Education.

[FR Doc. 2013-03314 Filed 2-12-13; 8:45 am]

BILLING CODE P